SECURITIES AND EXCHANGE COMMISSION

[Release Nos. 33-8635; 34-52800, File No. 265-23]

Advisory Committee on Smaller Public Companies

AGENCY: Securities and Exchange Commission.

ACTION: Notice of meeting of SEC Advisory Committee on Smaller Public Companies.

The Securities and Exchange Commission Advisory Committee on Smaller Public Companies is providing notice that it will hold a public meeting on Wednesday, December 14, 2005, in Multi-Purpose Room L006 of the Commission's headquarters, 100 F Street, NE., Washington, DC 20549, beginning at 9 a.m. The meeting is expected to last until approximately 4 p.m. with a lunch break from approximately noon to 1 p.m. The meeting will be audio webcast on the Commission's Web site at http://www.sec.gov.

The agenda for the meeting includes consideration of proposals of the Advisory Committee's four subcommittees on possible recommendations for changes to the current securities regulatory system for smaller companies. The public is invited to submit written statements for the meeting.

Due Date: Written statements should be received on or before December 7, 2005.

ADDRESSES: Written statements may be submitted by any of the following methods:

Electronic Statements

• Use the Commission's Internet submission form (http://www.sec.gov/info/smallbus/acspc.shtml); or

• Send an e-mail message to rule-comments@sec.gov. Please include File Number 265-23 on the subject line; or

Paper Statements

• Send paper statements in triplicate to Jonathan G. Katz, Committee Management Officer, Securities and Exchange Commission, 100 F Street, NE., Washington, DC 20549-9303.

All submissions should refer to File No. 265-23. This file number should be included on the subject line if e-mail is used. To help us process and review your statement more efficiently, please use only one method. The Commission staff will post all statements on the Advisory Committee's Web site (http://www.sec.gov./info/smallbus/acspc.shtml).

Statements also will be available for public inspection and copying in the Commission's Public Reference Room, 100 F Street, NE., Room 1580, Washington, DC 20549. All statements received will be posted without change; we do not edit personal identifying information from submissions. You should submit only information that you wish to make available publicly.

FOR FURTHER INFORMATION CONTACT: Kevin M. O'Neill, Special Counsel, at (202) 551-3260, Office of Small Business Policy, Division of Corporation Finance, Securities and Exchange Commission, 100 F Street, NE., Washington, DC 20549-3628.

SUPPLEMENTARY INFORMATION: In accordance with Section 10(a) of the Federal Advisory Committee Act, 5 U.S.C.-App. 1, Section 10(a), and the regulations thereunder, Gerald J. Laporte, Designated Federal Officer of the Committee, has ordered publication of this notice.

Dated: November 18, 2005.
Jonathan G. Katz,
Committee Management Officer.

[FR Doc. E5-6516 Filed 11-23-05; 8:45 am]

BILLING CODE 8010-01-P